DEPARTMENT OF TRANSPORATION

Federal Aviation Administration

Notice of Intent To Rule on Application To Impose and Use the Revenue From a Passenger Facility Charge (PFC) at East Texas Regional (formerly Gregg County) Airport, Longview, TX

AGENCY: Federal Aviation Administration (FAA), DOT.

ACTION: Notice of intent to rule on application.

SUMMARY: The FAA proposes to rule and invites public comment on the application to impose and use the revenue from a PFC at East Texas Regional Airport under the provisions of the Aviation Safety and Capacity Expansion Act of 1990 (Title IX of the Omnibus Budget Reconciliation Act of 1990) (Pub. L. 101-508) and part 158 of the Federal Aviation Regulations (14 CFR part 158).

DATES: Comments must be received on or before June 21, 2002.

ADDRESSES: Comments on this application may be mailed or delivered in triplicate copies of the FAA at the following address: Mr. G. Thomas Wade, Federal Aviation Administration, Southwest Region, Airports Division, Planning and Programming Branch, ASW-611, Fort Worth, Texas 76193-0610.

In addition, one copy of any comments submitted to the FAA must be mailed or delivered to Mr. James Loomis, Manager of East Texas Regional Airport at the following address: Mr. James Loomis, Airport Director, East Texas Regional Airport, Route 3, Highway 322, Longview, Texas.

Air carriers and foreign air carriers may submit copies of the written comments previously provided to the Airport under § 158.23 of Part 158.

FOR FURTHER INFORMATION CONTACT: Mr. G. Thomas Wade, Federal Aviation Administration, Southwest Region, Airports Division, Planning and Programming Branch, ASW-611, Fort Worth, Texas 76193-0610, (817) 222-5613. The application may be reviewed in person at this same location.

SUPPLEMENTARY INFORMATION: The FAA proposes to rule and invites public comment on the application to impose and use the revenue from a PFC at East Texas Regional Airport under the provisions of the Aviation Safety and Capacity Expansion Act of 1990 (Title IX of the Omnibus Budget Reconciliation Act of 1990) (Pub. L. 101-508) and part 158 of the Federal Aviation Regulations (14 CFR part 158).

On May 8, 2002, the FAA determined that the application to impose and use the revenue from a PFC submitted by the Airport was substantially complete within the requirements of § 158.25 of Part 158. The FAA will approve or disapprove the application, in whole or in part, no later than September 4, 2002.

The following is a brief overview of the application.

Level of the proposed PFC: $3.00.

Proposed charge effective date: May 1, 2002.

Proposed charge expiration date: January 1, 2011.

Total estimated PFC revenue: $699,232.

PFC application number: 02-02-C-00-GGG.

Brief description of proposed project(s):

Projects To Impose and Use PFC's

1. Renovate ARFF Facility, Phase I

2. Reconstruct Terminal Apron, Phase IV

3. Renovate ARFF Facility, Phase II

4. Reconstruct Terminal Apron, Phase V

5. Improve Runway Safety Areas

6. Construct Taxiway M and associated improvements

7. Airfield Electrical Improvements

8. Conduct Pavement Study

9. Convert Runway 4-22 to Taxiway N

10. PFC Administrative Costs

Proposed class or classes of air carriers to be exempted from collecting PFC's: Part 135 AT/CO filing FAA Form 1800-31.

Any person may inspect the application in person at the FAA office listed above under FOR FURTHER INFORMATION CONTACT and at the FAA regional Airports office located at: Federal Aviation Administration, Southwest Region, Airports Division, Planning and Programming Branch, ASW-610, 2601 Meacham Blvd., Fort Worth, Texas 76137-4298.

In addition, any person may, upon request, inspect the application, notice and other documents germane to the aplplication in person at East Texas Regional Airport.

Issued in Fort Worth, Texas on May 8, 2002.
Naomi L. Saunders,
Manager, Airports Division.

[FR Doc. 02-12855 Filed 5-21-02; 8:45 am]

BILLING CODE 4910-13-M